DEPARTMENT OF AGRICULTURE

National Agricultural Statistics Service

Notice of Intent To Revise a Currently Approved Information Collection

AGENCY: National Agricultural Statistics Service, USDA.

ACTION: Notice and request for comments.

SUMMARY: In accordance with the Paperwork Reduction Act of 1995, this notice announces the intent of the National Agricultural Statistics Service (NASS) to request revision and extension of a currently approved information collection, the National Childhood Injury and Occupational Injury Survey of Farm Operators. Revision to burden hours may be needed due to changes in the size of the target population, sampling design, and/or questionnaire length.

DATES: Comments on this notice must be received by September 27, 2011 to be assured of consideration.

ADDRESSES: You may submit comments, identified by docket number 0535-0235, by any of the following methods:

• E-mail: ombofficer@nass.usda.gov. Include docket number above in the subject line of the message.

• Fax: (202) 720-6396.

• Mail: Mail any paper, disk, or CD-ROM submissions to: David Hancock, NASS Clearance Officer, U.S. Department of Agriculture, Room 5336 South Building, 1400 Independence Avenue, SW., Washington, DC 20250-2024.

• Hand Delivery/Courier: Hand deliver to: David Hancock, NASS Clearance Officer, U.S. Department of Agriculture, Room 5336 South Building, 1400 Independence Avenue, SW., Washington, DC 20250-2024.

FOR FURTHER INFORMATION CONTACT: Joseph T. Reilly, Associate Administrator, National Agricultural Statistics Service, U.S. Department of Agriculture, (202) 720-4333.

SUPPLEMENTARY INFORMATION: Title: National Childhood Injury and Occupational Injury Survey of Farm Operators.

OMB Control Number: 0535-0235.

Expiration Date of Approval: 12/31/2011.

Type of Request: To revise and extend a currently approved information collection for a period of three years.

Abstract: The National Childhood Injury and Adult Occupational Injury Survey of Farm Operators is designed to: (1) Provide estimates of childhood nonfatal injury incidence and description of injury occurring to children less than 20 years of age who reside, work, or visit farms and (2) describe the occupational injury experience of farm operators. These surveys are being conducted as part of a cooperative agreement between the Center for Disease Control (CDC) and the National Agricultural Statistics Service (NASS). In 2012 the survey will concentrate on farm operations that have access to all terrain vehicles (ATVs) and any injuries associated with these vehicles. In 2013 NASS will not be conducting an injury survey, since we will be concentrating on the Census of Agriculture survey (OMB # 0535-0226). In 2014 NASS plans to conduct the General Adult and Child Injury Survey.

Data Collection for the Three Year Approval Period
Survey targeted group | Reference year | Survey year | Sample size
Farm Operators with ATVs | 2011 | 2012 | 25,000
No Survey Conducted this Year | 2012 | 2013 | 0
General Adult and Child Injury Survey | 2013 | 2014 | 100,000

Data will be collected by telephone from all 50 states. Questions will relate to on farm injuries occurring during the reference calendar year. These data will update and enhance existing data series used by the National Institute of Occupational Safety and Health (NIOSH) to: (1) Establish a measure of the number and rate of childhood injuries associated with farming operations and study the specific types of injuries sustained and (2) describe the scope and magnitude of occupational injuries associated with farming operations. The collection combines the youth and occupational injury studies to reduce the number of contacts on the targeted farm population. Reports will be generated and information disseminated to all interested parties concerning the findings from this study.

Authority: These data will be collected under the authority of 7 U.S.C. 2204(a). Individually identifiable data collected under this authority are governed by Section 1770 of the Food Security Act of 1985, 7 U.S.C. 2276, which requires USDA to afford strict confidentiality to non-aggregated data provided by respondents. This Notice is submitted in accordance with the Paperwork Reduction Act of 1995 Public Law 104-13 (44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Reporting burden for this collection of information is estimated to average 12 minutes per response; screen-outs will be allowed early in the interview process if no injuries were incurred in the reference year. Burden is based on a minimum response rate of 80%. NASS will be utilizing several pieces of publicity and informational materials to encourage respondents to participate in this important survey.

Respondents: Farm Operators.

Estimated Annual Number of Respondents: 42,000.

Estimated Total Annual Burden on Respondents: 12,800 hours.

Copies of this information collection and related instructions can be obtained without charge from David Hancock, NASS—OMB Clearance Officer, at (202) 690-2388 or at ombofficer@nass.usda.gov.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological or other forms of information technology collection methods. All responses to this notice will become a matter of public record and be summarized in the request for OMB approval.

Signed at Washington, DC, on July 8, 2011.
Joseph T. Reilly,
Associate Administrator.

[FR Doc. 2011-19179 Filed 7-28-11; 8:45 am]

BILLING CODE 3410-20-P